DEPARTMENT OF COMMERCE

National Oceanic and Atmospheric Administration

RIN 0648-XY90

New England Fishery Management Council; Public Meeting

AGENCY: National Marine Fisheries Service (NMFS), National Oceanic and Atmospheric Administration (NOAA), Commerce.

ACTION: Notice of a public meeting.

SUMMARY: The New England Fishery Management Council (Council) will hold a three-day Council meeting to consider actions affecting New England fisheries in the exclusive economic zone (EEZ).

DATES: The meetings will be held Tuesday, September 28 through Thursday, September 30, 2010. The meeting will begin each day at 8:30 a.m.

ADDRESSES: The meeting will be held at the Hotel Viking, One Bellevue Avenue, Newport, RI 02840; telephone: (401) 847-3300; fax: (401) 848-4864.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION:

Tuesday, September 28, 2010

Following introductions and any announcements, reappointed members will be sworn in for their three-year terms and the Council will hold elections for 2010-11 officers. These events will be followed by a series of brief reports from the Council Chairman and Executive Director, the NOAA Fisheries Regional Administrator (Northeast Region), NOAA General Counsel, Northeast Fisheries Science Center and Mid-Atlantic Fishery Management Council liaisons, and representatives of the U.S. Coast Guard, the Atlantic States Marine Fisheries Commission and NOAA Enforcement. During the remainder of the morning session the schedule includes a review of any experimental fishery permit applications received since the last Council meeting and a brief open period for interested parties to comment on issues relevant to Council business but not listed on the meeting agenda. There also will be a presentation on the Mid-Atlantic Fishery Management Council's (MAFMC) recent action on spiny dogfish. Specifically, this will include acceptable biological catch, annual catch limits and accountability measures. The New England Council may take similar action on these measures at this meeting. The remainder of the day will be focused on Atlantic herring. The Council's Herring Committee will present management measures included in a Draft Environmental Impact Statement for Amendment 5 to the Herring Fishery Management Plan (FMP). Final action on the following is scheduled: (1) a catch monitoring program for the herring fishery (including but not limited to reporting requirements, observer coverage, portside sampling, measures to maximize sampling, measures to address net slippage, maximized retention, electronic monitoring); (2) measures to address river herring bycatch, interactions with the Atlantic mackerel fishery and to protect spawning fish; and (3) criteria for midwater trawl access to groundfish closed areas.

Wednesday, September 29, 2010

Northeast Fisheries Science Center staff will report on the June 2010 Stock Assessment Workshop/Stock Assessment Review Committee meetings which addressed the status of pollock, monkfish and sea scallops. This briefing will be followed by a report from the Council's Scientific and Statistical Committee (SSC) Chairman. Issues to be reviewed include the committee's recommendations for updated acceptable biological catches for monkfish, sea scallops and several groundfish stocks (pollock, Gulf of Maine winter flounder, northern and southern windowpane flounder, ocean pout and Georges Bank yellowtail flounder). The Council will then discuss the implication for management of the SSC report on monkfish reference points and acceptable biological catch recommendations, and possibly initiate a framework adjustment. Next, the Council will consider final measures to be included in Amendment 15 to the Atlantic Sea Scallop FMP. If approved these would: (1) include annual catch limits; (2) address excess capacity in the limited access scallop fishery through stacking of permits and/or leasing of scallop effort; and (3) implement several adjustments to make the overall FMP more effective including adjustments to the general category management program and the overfishing definition, modifications to the essential fish habitat (EFH) closed areas, modifications to the research set-aside program and change the start date of the fishing year to May 1. The meeting will close for the day with a report from the Joint Groundfish/Scallop Committee concerning a recommendation to forward advisory panel advice to this committee to individual committees and possibly suspend the joint committee until a future date.

Thursday, September 30, 2010

The last day of the Council meeting will begin with a briefing on Amendment 18 to the South Atlantic Council's (SAFMC) Snapper Grouper FMP.

The SAFMC is amending its FMP for snapper grouper complex species throughout their range to meet the new annual catch limit requirements of the Magnuson-Stevens Act. Based on the landings of some of these species in the New England Council's jurisdiction, the SAFMC is considering extending the management boundaries for all species in the snapper grouper complex northward to include the New England Council's jurisdiction (except black sea bass, golden tilefish, and scup). Following a presentation on the proposed measures, there will be an opportunity for the Council and public to ask questions and/or offer comments. Following this discussion, the Council intends to review and approve final measures to be included in Amendment 3 to Red Crab FMP. The action will implement annual catch limits, accountability measures, quota-based management and other FMP modifications to address Magnuson-Stevens Act requirements, as well as include fishery specifications for 2011-13. A report on the July 2010 Transboundary Resources Assessment Committee (TRAC) meeting will follow and include a review of the status of the transboundary stocks managed through the U.S./Canada Resource Sharing Understanding. These are Eastern Georges Bank cod and haddock and Georges Bank yellowtail flounder. Using information based on the TRAC report, the Transboundary Management Guidance Committee will present its recommendations for fishing year 2011 total allowable catches of these same stocks. The day will conclude with the Groundfish Committee's Report which will include a recommendation to take initial action on Framework Adjustment 45 to the Northeast Multispecies FMP. Measures under consideration include revising the pollock status determination criteria, changing the acceptable biological catch for pollock, modifying the Georges Bank yellowtail flounder rebuilding strategy, implementing measures to protect spawning cod in the inshore Gulf of Maine, implementing additional sectors, changing monitoring requirements for handgear A and B permitted vessels and changing the general category scallop vessel restrictions in the Great South Channel. Other issues could be considered as a result of the September 3, 2010 Groundfish Committee meeting. The groundfish agenda items will continue until meeting adjournment at the end of the day.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Paul J. Howard (see ADDRESSES) at least 5 days prior to the meeting date.

Dated: September 7, 2010.
Tracey L. Thompson,
Acting Director, Office of Sustainable Fisheries, National Marine Fisheries Service.

[FR Doc. 2010-22674 Filed 9-10-10; 8:45 am]

BILLING CODE 3510-22-S